DEPARTMENT OF VETERANS AFFAIRS

[OMB Control No. 2900-0253]

Agency Information Collection Activities Under OMB Review

AGENCY: Veterans Benefits Administration, Department of Veterans Affairs

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before August 8, 2002.

FOR FURTHER INFORMATION OR A COPY OF THE SUBMISSION CONTACT: Denise McLamb, Information Management Service (045A4), Department of Veterans Affairs, 810 Vermont Avenue, NW., Washington, DC 20420, (202) 273-8030, FAX (202) 273-5981 or e-mail: denise.mclamb@mail.va.gov. Please refer to “OMB Control No. 2900-0253.”

Send comments and recommendations concerning any aspect of the information collection to VA's OMB Desk Officer, OMB Human Resources and Housing Branch, New Executive Office Building, Room 12035, Washington, DC 20503 (202) 395-7316. Please refer to “OMB Control No. 2900-0253” in any correspondence.

SUPPLEMENTARY INFORMATION: Title: Nonsupervised Lender's Nomination and Recommendation of Credit Underwriter, VA Form 26-8736a.

OMB Control Number: 2900-0253.

Type of Review: Extension of a currently approved collection.

Abstract: Standards established by VA require that a lender have a qualified underwriter review all loans to be closed on an automatic basis to determine that the loan meets VA's credit underwriting standards. To determine if the lender's nominee is qualified to make such a determination, VA Form 26-8736a is used to evaluate the underwriter's experience. The form is completed by the lender and the lender's nominee for underwriting and submitted to VA for approval.

An agency may not conduct or sponsor, and a person is not required to respond to a collection of information unless it displays a currently valid OMB control number. The Federal Register Notice with a 60-day comment period soliciting comments on this collection of information was published on April 23, 2002, at pages 19807-19808.

Affected Public: Business or other for-profit.

Estimated Annual Burden: 1,000 hours.

Estimated Average Burden Per Respondent: 20 minutes.

Frequency of Response: On occasion.

Estimated Number of Respondents: 3,000.

Dated: June 26, 2002.
By direction of the Secretary.
Genie McCully,
Acting Director, Information Management Service

.

[FR Doc. 02-17125 Filed 7-8-02; 8:45 am]

BILLING CODE 8320-01-P